DEPARTMENT OF THE INTERIOR

Bureau of Ocean Energy Management

[OMB Number 1010-0114]

Information Collection: General and Oil and Gas Production Requirements in the Outer Continental Shelf; Submitted for OMB Review; Comment Request

ACTION: 30-day notice.

MMAA104000

SUMMARY: To comply with the Paperwork Reduction Act of 1995 (PRA), the Bureau of Ocean Energy Management (BOEM) is notifying the public that we have submitted an information collection request (ICR) to the Office of Management and Budget (OMB) for review and approval. The ICR pertains to the paperwork requirements in the regulations under 30 CFR 550, Subparts A, General; and K, Oil and Gas Production Requirements, as well as associated forms. The Office of Management and Budget (OMB) has assigned control number 1010-0114 to this information collection. This notice provides the public a second opportunity to comment on the paperwork burden of this collection.

DATES: Submit written comments by December 29, 2016.

ADDRESSES: Submit comments on this ICR to the Desk Officer for the Department of the Interior at OMB-OIRA at (202) 395-5806 (fax) or OIRA_submission@omb.eop.gov (email). Please provide a copy of your comments to the BOEM Information Collection Clearance Officer, Anna Atkinson, Bureau of Ocean Energy Management, 45600 Woodland Road, 135-C10, Sterling, Virginia 20166 (mail) or anna.atkinson@boem.gov (email). Please reference ICR 1010-0114 in your comment and include your name and return address.

FOR FURTHER INFORMATION CONTACT: Anna Atkinson, Office of Policy, Regulations, and Analysis at anna.atkinson@boem.gov (email) or (703) 787-1025 (phone). You may review the ICR online at http://www.reginfo.gov. Follow the instructions to review Department of the Interior collections under review by OMB.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on September 16, 2016 (81 FR 63799), and the comment period ended November 15, 2016. BOEM received no comments.

Section 3506(c)(2)(A) of the PRA (44 U.S.C. 3501, et seq.) requires each agency “. . . to provide notice . . . and otherwise consult with members of the public and affected agencies concerning each proposed collection of information . . .” BOEM now requests comments to: (a) Evaluate whether the collection is necessary or useful; (b) evaluate the accuracy of the burden estimates; (c) enhance the quality, usefulness, and clarity of the information to be collected; and (d) minimize the burden on the respondents, including the use of technology. Please send comments as directed under ADDRESSES and DATES. Please refer to OMB control number 1010-0114 in your correspondence.

The following information pertains to this request:

OMB Control Number: 1010-0114.

Title: 30 CFR 550, Subpart A, General, and Subpart K, Oil and Gas Production Requirements.

Forms:

• BOEM-0127, Sensitive Reservoir Information Report;

• BOEM-0140, Bottomhole Pressure Survey Report;

• BOEM-1123, Designation of Operator; and

• BOEM-1832, Notification of Incidents of Non-Compliance.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations in the OCS must preserve, protect, and develop oil and natural gas resources in a manner that is consistent with the need to make such resources available to meet the Nation's energy needs as rapidly as possible; balance orderly energy resource development with protection of human, marine, and coastal environments; ensure the public a fair and equitable return on the resources of the OCS; and preserve and maintain free enterprise competition. Section 1332(6) states that “operations in the [O]uter Continental Shelf should be conducted in a safe manner by well trained personnel using technology, precautions, and techniques sufficient to prevent or minimize . . . loss of well control . . . physical obstructions to users of the waters or subsoil and seabed, or other occurrences which may cause damage to the environment or to property or endanger life or health.”

The Independent Offices Appropriations Act (31 U.S.C. 9701), the Omnibus Appropriations Bill (Pub. L. 104-133, 110 Stat. 1321, April 26, 1996), and Office of Management and Budget (OMB) Circular A-25 authorize Federal agencies to recover the full cost of services that confer special benefits. Under the Department of the Interior's (DOI) implementing policy, the Bureau of Ocean Energy Management (BOEM) is required to charge fees for services that provide special benefits or privileges to an identifiable non-Federal recipient above and beyond those that accrue to the public.

This ICR covers 30 CFR 550, Subpart A, General, and Subpart K, Oil and Gas Production Requirements, which deal with regulatory requirements of oil, gas, and sulphur operations on the OCS. This request also covers the related Notices to Lessees and Operators (NTLs) that BOEM issues to clarify and provide guidance on some aspects of our regulations, and forms BOEM-0127, BOEM-0140, BOEM-1123, and BOEM-1832.

The BOEM uses the information collected under the Subpart A and K regulations to ensure that operations in the OCS are carried out in a safe and environmentally sound manner, do not interfere with the rights of other users in the OCS, and balance the protection and development of OCS resources. Specifically, we use the information collected to:

• Determine the capability of a well to produce oil or gas in paying quantities or to determine the possible need for additional wells resulting in minimum royalty status on a lease.

• Provide lessees/operators greater flexibility to comply with regulatory requirements through approval of alternative equipment or procedures and departures if they demonstrate equal or better compliance with the appropriate performance standards.

• Ensure that subsurface storage of natural gas does not unduly interfere with development and production operations under existing leases.

• Record the designation of an operator authorized to act on behalf of the lessee/operating rights owner and to fulfill their obligations under the OCS Lands Act and implementing regulations, or to record the local agent empowered to receive notices and comply with regulatory orders issued (Form BOEM-1123, Designation of Operator). This form requires the respondent to submit general information such as lease number, name, address, company number of designated operator, and signature of the authorized lessee and designated operator. With this renewal, BOEM is adding a signature line for the designated operator. We also updated the form instructions by removing references to the Gulf of Mexico, so this form can be used nationally.

• Determine if an application for right-of-use and easement complies with the OCS Lands Act, other applicable laws, and BOEM regulations; and does not unreasonably interfere with the operations of any other lessee.

• Provide for orderly development or disqualification of leases to determine the appropriateness of lessee/operator performance.

• Approve requests to cancel leases and ascertain if/when the Secretary may cancel leases.

• Ensure the protection of any discovered archaeological resources.

• Regulate production rates from sensitive reservoirs (Form BOEM-0127, Sensitive Reservoir Information Report). BOEM engineers and geologists use the information for rate control and reservoir studies. The form requests general information about the reservoir and the company, volumetric data, and fluid analysis and production data.

• Manage reservoirs in our efforts to conserve natural resources, prevent waste, and protect correlative rights, including the Government's royalty interest (Form BOEM-0140, Bottomhole Pressure Survey Report). Specifically, BOEM uses the information in reservoir evaluations to determine maximum production and efficient rates and to review applications for downhole commingling to ensure that action does not harm ultimate recovery or undervalued royalties. The form requests information about the well and operator; test data information such as shut-in time, bottomhole temperature, kelly bushing elevation; and bottomhole pressure points that consist of measured depth(s), true vertical depth(s), pressure(s), and pressure gradient(s).

• Determine that respondents have corrected any Incidents of Non-Compliance (INCs), Form BOEM-1832, identified during compliance reviews. The BOEM issues this form to the operator and the operator then corrects the INC(s), signs and returns the form to the BOEM Regional Supervisor.

We will protect proprietary information according to the Freedom of Information Act (5 U.S.C. 552), its implementing regulations (43 CFR 2), 30 CFR 252, and 30 CFR 550.197, “Data and information to be made available to the public or for limited inspection.” Proprietary information concerning geological and geophysical data will be protected according to 43 U.S.C. 1352. No items of a sensitive nature are collected. Responses are mandatory.

Frequency: Primarily on occasion; monthly.

Description of Respondents: Federal oil and gas and sulphur lessees/operators.

Estimated Reporting and Recordkeeping Hour Burden: The estimated annual hour burden for this collection is 30,635 hours. The following table details the individual components and estimated hour burdens. In calculating the burdens, we assumed that respondents perform certain requirements in the normal course of their activities. We consider these to be usual and customary and took that into account in estimating the burden.

Burden Breakdown
Citation 30 CFR 550 Subpart A and related forms/NTLs | Reporting or recordkeeping requirement | Non-hour cost burdens: Hour burden | Non-hour cost burdens: Average number of annual responses | Non-hour cost burdens: Annual burden hours
Authority and Definition of Terms
104; 181; Form BOEM-1832 | Appeal orders or decisions; appeal INCs; request hearing due to cancellation of lease | Exempt under 5 CFR 1320.4(a)(2), (c) |  | 0
Performance Standards
115; 116 | Request determination of well producibility; make available or submit data and information; notify BOEM of test | 5 | 90 responses | 450
119 | Apply for subsurface storage of gas; sign storage agreement | 10 | 3 applications | 30
Subtotal |  |  | 93 responses | 480
Cost Recovery Fees
125; 126; 140 | Cost Recovery Fees; confirmation receipt etc; verbal approvals and written request to follow. Includes request for refunds | Cost Recovery Fees and related items are covered individually throughout this subpart. |  | 0
Designation of Operator
143 | Report change of name, address, etc | Not considered information collection under 5 CFR 1320.3(h)(1). |  | 0
143(a-c); 144; 145; Form BOEM-1123 | Submit designation of operator (Form BOEM-1123—form takes 30 minutes); report updates; notice of termination; submit designation of agent. Request exception. NO FEE | 1 | 2,584 forms | 2,584
143(a-d); 144; 145; Form BOEM-1123 | Change designation of operator (Form BOEM-1123—form takes 30 minutes); report updates; notice of termination; submit designation of agent; include pay.gov confirmation receipt. Request exception. SERVICE FEE | 1 | 930 forms | 930
|  | $175 fee × 930 = $162,750
186(a)(3); NTL | Apply for user account in TIMS (electronic/digital form submittals) | Not considered information collection under 5 CFR 1320.3(h)(1). |  | 0
Subtotal |  |  | 3,514 responses | 3,514
|  |  | $162,750 non-hour cost burden
Compliance
101; 135; 136; Form BOEM-1832 | Submit response and required information for INC, probation, or revocation of operating status. Notify when violations corrected | 2 | 94 submissions | 188
| Request waiver of 14-day response time or reconsideration | 1 | 1 | 1
135; 136 | Request reimbursement for services provided to BOEM representatives during reviews; comment | 1.5 | 2 requests | 3
Subtotal |  |  | 97 responses | 192
Special Types of Approval
125(c); 140 | Request various oral approvals not specifically covered elsewhere in regulatory requirements | 1 | 100 requests | 100
141; 101-199 | Request approval to use new or alternative procedures; submit required information | 20 | 100 requests | 2,000
142; 101-199 | Request approval of departure from operating requirements not specifically covered elsewhere in regulatory requirements; submit required information | 2.5 | 100 requests | 25
Subtotal |  |  | 300 responses | 2,350
Right-of-use and Easement
160; 161; 123 | OCS lessees: Apply for new or modified right-of-use and easement to construct and maintain off-lease platforms, artificial islands, and installations and other devices; include notifications and submitting required information | 9 | 26 applications | 234
160(c) | Establish a Company File for qualification; submit updated information, submit qualifications for lessee/bidder, request exception | Burden covered under 30 CFR 556 (1010-0006) |  | 0
160; 165; 123 | State lessees: Apply for new or modified right-of-use and easement to construct and maintain off-lease platforms, artificial islands, and installations and other devices; include pay.gov confirmation and notifications | 5 | 1 application | 5
|  | $2,742 state lease fee × 1 = $2,742
166 | State lessees: Furnish surety bond; additional security if required | Burden covered under 30 CFR 556 (1010-0006). |  | 0
Subtotal |  |  | 27 responses | 239
|  |  | $2,742 non-hour cost burden
Primary Lease Requirements, Lease Term Extensions, and Lease Cancellations
181(d); 182(b), 183(a)(b) | Request termination of suspension, cancellation of lease, lesser lease term (no requests in recent years for termination/cancellation of a lease; minimal burden) | 20 | 1 request | 20
182; 183, 185; 194 | Various references to submitting new, revised, or modified exploration plan, development/production plan, or development operations coordination document, and related surveys/reports | Burden covered under 30 CFR 550, Subpart B (1010-0151) |  | 0
184 | Request compensation for lease cancellation mandated by the OCS Lands Act (no qualified lease cancellations in many years; minimal burden compared to benefit) | 50 | 1 request | 50
Subtotal |  |  | 2 responses | 70
Information and Reporting Requirements
186(a) | Apply to receive administrative entitlements to eWell/TIMS system for electronic submissions | Not considered IC under 5 CFR 1320.3(h)(1) |  | 0
186; NTL | Submit information, reports, and copies as BOEM requires | 10 | 125 | 1,250
135; 136 | Report apparent violations or non-compliance | 1.5 | 2 reports | 3
194; NTL | Report archaeological discoveries. Submit archaeological and follow-up reports and additional information | 2 | 6 reports | 12
194; NTL | Request departures from conducting archaeological resources surveys and/or submitting reports in GOMR | 1 | 2 requests | 2
194 | Submit ancillary surveys/investigations reports, as required | Burden covered under 30 CFR 550 Subpart B (1010-0151). |  | 0
196 | Submit data/information for G&G activity and request reimbursement | Burden covered under 30 CFR 551 (1010-0048). |  | 0
197(b)(2) | Demonstrate release of G&G data would unduly damage competitive position | 1 | 1 | 1
197 | Submit confidentiality agreement | 1 | 1 | 1
Subtotal |  |  | 137 responses | 1,269
Recordkeeping
135; 136 | During reviews, make records available as requested by inspectors | 2 | 7 reviews | 14
Subtotal |  |  | 7 responses | 14
Citation 30 CFR 550 Subpart K and Related Forms | Well surveys and classifying reservoirs | Hour burden | Average number of annual responses | Annual burden hours
1153 | Conduct static bottomhole pressure survey; submit Form BOEM-0140 (Bottomhole Pressure Survey Report) (within 60 days after survey) | 14 | 1,161 surveys | 16,254
1153(d) | Submit justification, information, and Form BOEM-0140, to request a departure from requirement to run a static bottomhole survey | 1 | 200 survey departures | 200
1154; 1167 | Submit request and supporting information to reclassify reservoir | 1 | 15 requests | 15
1155; 1165(b); 1166; 1167 | Submit Form BOEM-0127 (Sensitive Reservoir Information Report) and supporting information/revisions (within 45 days after certain events or at least annually). AK Region: submit BOEM-0127 and request MER | 3 | 2,012 forms | 6,036
1153-1167 | Request general departure or alternative compliance requests not specifically covered elsewhere in regulatory requirements | 1 | 2 | 2
1165 | Submit proposed plan for enhanced recovery operations to BSEE | Burden covered under BSEE 30 CFR 250 (1014-0019). |  | 0
Subtotal |  |  | 3,390 responses | 22,507
Total Burden |  |  | 7,567 Responses | 30,635
|  |  | $165,492 Non-Hour Cost Burdens

Estimated Reporting and Recordkeeping Non-Hour Cost Burden: We have identified two non-hour cost burdens. Section 550.143 requires a fee for a change in designation of operator ($175). Section 550.165 requires a State lessee applying for a right-of use and easement in the OCS to pay a cost recovery application fee ($2,742). The total non-hour cost burden for this collection is estimated at $165,492.

Public Availability of Comments: Before including your address, phone number, email address, or other personal identifying information in your comment, you should be aware that your entire comment—including your personal identifying information—may be made publicly available at any time. While you can ask us in your comment to withhold your personal identifying information from public review, we cannot guarantee that we will be able to do so.

Dated: November 21, 2016.
Deanna Meyer-Pietruszka,
Chief, Office of Policy, Regulations, and Analysis.

[FR Doc. 2016-28542 Filed 11-28-16; 8:45 am]

BILLING CODE 4310-MR-P